DEPARTMENT OF ENERGY

Federal Energy Regulatory Commission

Combined Notice of Filings #1

January 29, 2008.

Take notice that the Commission received the following electric corporate filings:

Docket Numbers: EC08-38-000.

Applicants: Williams Gas Marketing, Inc., Williams Generation Company—Hazleton.

Description: Joint application for authorization under Section 203 of the FPA for disposition of jurisdictional facilities request for confidential treatment and request for expedited action of Williams Gas Marketing, Inc., et al.

Filed Date: 01/18/2008.

Accession Number: 20080125-0178.

Comment Date: 5 p.m. Eastern Time on Friday, February 8, 2008.

Docket Numbers: EC08-39-000.

Applicants: Calpine Corporation and its Public Utilities, LS Power Development, LLC, Luminus Management, LLC.

Description: Calpine Corporation submits a joint application for approval required in connection with the proposed distribution of common stock of a reorganized Calpine to LSP Development and Luminus Management, etc.

Filed Date: 01/22/2008.

Accession Number: 20080125-0180.

Comment Date: 5 p.m. Eastern Time on Tuesday, February 12, 2008.

Take notice that the Commission received the following exempt wholesale generator filings:

Docket Numbers: EG08-31-000.

Applicants: Lockport Energy Associates, LP.

Description: Exempt Wholesale Generator Notice of Self Certification of Lockport Energy Associates, LP, under EG08-31.

Filed Date: 01/17/2008.

Accession Number: 20080117-5048.

Comment Date: 5 p.m. Eastern Time on Thursday, February 7, 2008.

Docket Numbers: EG08-32-000.

Applicants: Grand Ridge Energy, LLC.

Description: Grand Ridge Energy, LLC, submits its Notice of Self Certification of Exempt Wholesale Generator Status under EG08-32.

Filed Date: 01/22/2008.

Accession Number: 20080125-0220.

Comment Date: 5 p.m. Eastern Time on Tuesday, February 12, 2008.

Take notice that the Commission received the following electric rate filings:

Docket Numbers: ER98-4421-008; ER04-543-004; ER99-791-006; ER99-806-005; ER99-3677-007; ER01-570-008; ER00-2187-003.

Applicants: Consumers Energy Company; CMS Energy Resource Management Company; Grayling Generating Station LP; Genesee Power Station, LP; CMS Generation Michigan Power, LLC; Dearborn Industrial Generation, LLC; CMS Distributed Power, LLC.

Description: Consumers Energy et al. submits a notice of non-material change in status.

Filed Date: 01/22/2008.

Accession Number: 20080125-0139.

Comment Date: 5 p.m. Eastern Time on Tuesday, February 12, 2008.

Docket Numbers: ER03-329-003; ER07-597-003.

Applicants: NorthWestern Corporation; Montana Generation, LLC.

Description: NorthWestern Corp. and Montana Generation, LLC, submits an amendment to a notice of non-material change in status.

Filed Date: 01/18/2008.

Accession Number: 20080124-0082.

Comment Date: 5 p.m. Eastern Time on Friday, February 8, 2008.

Docket Numbers: ER03-534-005.

Applicants: Ingenco Wholesale Power, LLC.

Description: Ingenco Wholesale Power, LLC, submits a notice of change in status.

Filed Date: 01/18/2008.

Accession Number: 20080124-0079.

Comment Date: 5 p.m. Eastern Time on Friday, February 8, 2008.

Docket Numbers: ER03-1398-006.

Applicants: South Carolina Electric & Gas Company.

Description: South Carolina Electric & Gas Co. submits a Settlement Agreement et al.

Filed Date: 01/17/2008.

Accession Number: 20080125-0146.

Comment Date: 5 p.m. Eastern Time on Thursday, February 7, 2008.

Docket Numbers: ER06-1280-001; ER00-2181-004; ER02-556-008.

Applicants: Hess Corporation; Hess Energy, Inc.; Select Energy, New York, Inc.

Description: Hess Corp. et al. submits a Notice of Change in Status in compliance with Order 697.

Filed Date: 01/23/2008.

Accession Number: 20080123-0016.

Comment Date: 5 p.m. Eastern Time on Wednesday, February 13, 2008.

Docket Numbers: ER06-1308-004.

Applicants: Midwest Independent Transmission System.

Description: Midwest Independent Transmission System Operator, Inc., supplements its 11/21/07 filing to include its Withdrawal Fee Recalculation Agreement with E ON US, LLC.

Filed Date: 01/18/2008.

Accession Number: 20080124-0080.

Comment Date: 5 p.m. Eastern Time on Friday, February 8, 2008.

Docket Numbers: ER07-809-005.

Applicants: Florida Power Corporation.

Description: Supplemental motion to withdraw Attachment A to the Contract for Interchange Service of Florida Power Corp.

Filed Date: 01/22/2008.

Accession Number: 20080124-0083.

Comment Date: 5 p.m. Eastern Time on Monday, February 4, 2008.

Docket Numbers: ER07-809-004.

Applicants: Florida Power Corporation.

Description: Motion to withdraw amendments to the 1990 Interconnection Agreement and terminate proceedings of Florida Power Corp.

Filed Date: 01/14/2008.

Accession Number: 20080122-0185.

Comment Date: 5 p.m. Eastern Time on Monday, February 4, 2008.

Docket Numbers: ER08-331-001.

Applicants: Southwest Power Pool, Inc.

Description: Southwest Power Pool, Inc. submits an amendment to its 12/13/07 Initial Filing of an executed Service Agreement for Network Integration Transmission Service.

Filed Date: 01/24/2008.

Accession Number: 20080125-0145.

Comment Date: 5 p.m. Eastern Time on Thursday, February 14, 2008.

Docket Numbers: ER08-387-001.

Applicants: Atlantic Renewables Projects II LLC.

Description: Atlantic Renewable Projects II LLC submits an amendment to its market-based rate application.

Filed Date: 01/23/2008.

Accession Number: 20080125-0140.

Comment Date: 5 p.m. Eastern Time on Wednesday, February 13, 2008.

Docket Numbers: ER08-400-001.

Applicants: CalPeak Power-El Cajon LLC.

Description: CalPeak Power-El Cajon LLC submits an amendment to its 12/31/07 filing of a Must-Run Service Agreement with California Independent System Operator Corp.

Filed Date: 01/23/2008.

Accession Number: 20080125-0141.

Comment Date: 5 p.m. Eastern Time on Wednesday, February 13, 2008.

Docket Numbers: ER08-442-000.

Applicants: Cambridge Electric Light Company.

Description: Cambridge Electric Light Company et al. submits notices of cancellation for its market-based rate tariffs, FERC Electric Tariff, First Revised Volume 10, to become effective 1/1/07.

Filed Date: 01/14/2008.

Accession Number: 20080118-0057.

Comment Date: 5 p.m. Eastern Time on Monday, February 4, 2008.

Docket Numbers: ER08-471-000.

Applicants: Entergy Services, Inc.

Description: Entergy Gulf States Louisiana, LLC submits a notice of termination of Interconnection and Operating Agreement etc. with Citgo Petroleum Corp.

Filed Date: 01/23/2008.

Accession Number: 20080125-0142.

Comment Date: 5 p.m. Eastern Time on Wednesday, February 13, 2008.

Docket Numbers: ER08-472-000.

Applicants: Southwest Power Pool, Inc.

Description: Southwest Power Pool, Inc. submits revised pages concerning its OATT reimplementing changes to pricing zone rates to be effective 2/1/08.

Filed Date: 01/23/2008.

Accession Number: 20080125-0143.

Comment Date: 5 p.m. Eastern Time on Wednesday, February 13, 2008.

Docket Numbers: ER08-473-000.

Applicants: ISO New England, Inc.

Description: ISO New England Inc. et al. submits an amendment of Governing Law Provisions to the Study Agreements of Schedule 22 etc.

Filed Date: 01/24/2008.

Accession Number: 20080125-0144.

Comment Date: 5 p.m. Eastern Time on Thursday, February 14, 2008.

Docket Numbers: ER08-474-000.

Applicants: ISO New England Inc.

Description: ISO New England, Inc. and the New England Power Pool Participants Committee submits revised tariff sheets and supporting testimony of Marc D. Montalvo, reproposed revisions to Market Rule 1.

Filed Date: 01/25/2008.

Accession Number: 20080128-0013.

Comment Date: 5 p.m. Eastern Time on Friday, February 15, 2008.

Take notice that the Commission received the following electric securities filings:

Docket Numbers: ES08-25-000.

Applicants: Aquila, Inc.

Description: Aquila, Inc.'s Application for Authorization of Issuance of Notes and Debt with Maturity of One Year or Less.

Filed Date: 01/22/2008.

Accession Number: 20080122-5012.

Comment Date: 5 p.m. Eastern Time on Tuesday, February 12, 2008.

Take notice that the Commission received the following public utility holding company filings:

Docket Numbers: PH08-16-000.

Applicants: Milliken & Company.

Description: Notice of Material Change in Facts of Milliken & Company.

Filed Date: 01/02/2008.

Accession Number: 20080102-5027.

Comment Date: 5 p.m. Eastern Time on Wednesday, January 23, 2008.

Docket Numbers: PH08-17-000.

Applicants: E.ON North America Holdings LLC.

Description: E.ON North America Holdings LLC's Waiver Notification on FERC-65B and filed a corrected version.

Filed Date: 01/17/2008.

Accession Number: 20080117-5046 & 20080117-5049.

Comment Date: 5 p.m. Eastern Time on Thursday, February 7, 2008.

Docket Numbers: PH08-19-000.

Applicants: ITC Holdings Corp.

Description: FERC Form 65 B, Waiver Notification of ITC Holdings Corp.

Filed Date: 01/22/2008.

Accession Number: 20080122-5033.

Comment Date: 5 p.m. Eastern Time on Tuesday, February 12, 2008.

Docket Numbers: PH08-20-000.

Applicants: Cerberus Capital Management, L.P.

Description: FERC Form 65 B, Waiver Notification of Cerberus Capital Management, L.P.

Filed Date: 01/22/2008.

Accession Number: 20080122-5187.

Comment Date: 5 p.m. Eastern Time on Tuesday, February 12, 2008.

Take notice that the Commission received the following PURPA 210(m)(3) filings:

Docket Numbers: QM08-3-000.

Applicants: Alliant Energy Corporate Services, Inc., Wisconsin Power & Light Co., Interstate Power & Light Company.

Description: Application for authorization to terminate the Mandatory Purchase Obligation of power from qualified facilities over twenty megawatts on a service territory-wide basis, pursuant to section 292.310(a).

Filed Date: 01/25/2008.

Accession Number: 20080125-5140.

Comment Date: 5 p.m. Eastern Time on Friday, February 22, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E8-1996 Filed 2-4-08; 8:45 am]

BILLING CODE 6717-01-P